FEDERAL COMMUNICATIONS COMMISSION

Information Collection Being Reviewed by the Federal Communications Commission Under Delegated Authority

AGENCY: Federal Communications Commission.

ACTION: Notice and request for comments.

SUMMARY: The Federal Communications Commission (FCC), as part of its continuing effort to reduce paperwork burdens, invites the general public and other Federal agencies to take this opportunity to comment on the following information collection, as required by the Paperwork Reduction Act (PRA) of 1995. Comments are requested concerning (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before August 29, 2011. If you anticipate that you will be submitting comments, but find it difficult to do so within the period of time allowed by this notice, you should advise the contact listed below as soon as possible.

ADDRESSES: Direct all PRA comments to the Federal Communications Commission via e-mail to PRA@fcc.gov and Cathy.Williams@fcc.gov.

FOR FURTHER INFORMATION CONTACT: For additional information about the information collection, contact Cathy Williams at (202) 418-2918.

SUPPLEMENTARY INFORMATION:

OMB Control Number: 3060-1022.

Title: Sections 101.1403, 101.103(f), 101.1413, 101.1440 and 101.1417, MVDDS and DBS Reporting and Third Party Disclosure Requirements.

Form Number: N/A.

Type of Review: Extension of a currently approved collection.

Respondents: Business or other for-profit entities.

Number of Respondents: 17 respondents; 108 responses.

Estimated Time per Response: 0.5 hour-40 hours.

Frequency of Response: Annual and other reporting requirements, and third-party disclosure requirements.

Obligation to Respond: Required to obtain or retain benefits. The statutory authority for this collection of information is contained in 47 U.S.C. 154(i), 157(a), 301, 303(c), 303(f), 303(g), 303(r), 308 and 309(j).

Total Annual Burden: 565 hours.

Total Annual Cost: $3,000.

Privacy Impact Assessment: N/A.

Nature and Extent of Confidentiality: There is no need for confidentiality.

Needs and Uses: The Commission is seeking an extension of this information collection in order to obtain the full three year approval from OMB. Although there are adjustments to the burden hours and cost estimates, there are no changes in any of the reporting and third party disclosure requirements.

The Commission uses the information in the following manner:

Section 101.1403—Multichannel Video Distribution and Data (MVDDS) licensees that meet the broadcast carriage requirements of 47 U.S.C. 325(b)(1) are required to send a letter to broadcast stations directly (or otherwise obtain the prior, express authority of a broadcast station before transmitting that station's signal;

Section 101.103(f)—The Commission's licensees will use the required notice and information to ensure that prior to operation the MVDDS antennas meet the minimum spacing requirement;

Section 101.1413—The Commission uses the information to determine whether a licensee is providing substantial service, as required, and for whether to apply a renewal expectancy;

Section 101.1440—The information collected and disclosed by this rule section will ensure that MVDDS licensees protect Direct Broadcast Satellite (DBS) customers of record from interference as required by the Commission's rules; and

Section 101.1417—The reporting requirement is necessary for the Commission to keep track of the MVDDS service. The information compiled in the annual report will assist the Commission in analyzing trends and competition in the marketplace.

Federal Communications Commission.
Marlene H. Dortch,
Secretary, Office of the Secretary, Office of Managing Director.

[FR Doc. 2011-16441 Filed 6-29-11; 8:45 am]

BILLING CODE 6712-01-P